EXPORT-IMPORT BANK OF THE UNITED STATES

Sunshine Act Meeting

ACTION: Notice of a partially open meeting of the board of directors of the Export-Import Bank of the United States.

Time and Place: Thursday, February 12, 2009 at 9:30 a.m. The meeting will be held at Ex-Im Bank in Room 1143, 811 Vermont Avenue, NW., Washington, DC 20571.

Open Agenda Items: Item No. 1: Resolution presented to Howard A. Schweitzer General Counsel upon his resignation.

Public Participation: The meeting will be open to public participation for Item No. 1 only.

Further Information: For further information, contact: Office of the Secretary, 811 Vermont Avenue, NW., Washington, DC 20571 (Tele. No. 202-565-3957).

Kamil P. Cook,
Acting General Counsel.

[FR Doc. E9-2815 Filed 2-10-09; 8:45 am]

BILLING CODE 6690-01-M